GENERAL SERVICES ADMINISTRATION

41 CFR Part 301-1

[Notice-MA-2018-08; Docket No. 2018-0002, Sequence No. 20]

Federal Travel Regulation: Contract City-Pair Business-Class Air Accommodations

AGENCY: Office of Government-wide Policy (OGP), General Services Administration (GSA).

ACTION: Notification of Federal Travel Regulation (FTR) Bulletin 18-08, Contract City-Pair Business-Class Air Accommodations.

SUMMARY: GSA is notifying agencies that Federal civilian employees of an agency as defined in its regulations, if authorized to travel via business-class air accommodations, must use the business-class city-pair fare (coded as “—CB”) where awarded for the route(s) listed on the travel authorization. The information outlined in an FTR bulletin will provide clarity and promote consistency across the Government.

DATES: FTR Bulletin 18-08 is available September 13, 2018.

ADDRESSES: The bulletin is located at www.gsa.gov/ftr under the “FTR & Related Files” tab.

FOR FURTHER INFORMATION CONTACT: For clarification of content, please contact Mr. Cy Greenidge, Office of Government-wide Policy, Office of Asset and Transportation Management, at 202-219-2349, or by email at travelpolicy@gsa.gov. Please cite Notice of FTR Bulletin 18-08.

SUPPLEMENTARY INFORMATION: Federal civilian employees of an agency as defined in FTR § 301-1.1, if authorized to travel via business-class air accommodations, must use the business-class city-pair fare (coded as “—CB”) where awarded for the route(s) listed on the travel authorization. The Federal traveler must use this fare or have an authorized exception to mandatory use of a contract city-pair fare per the FTR. The information outlined in FTR Bulletin 18-08 will provide clarity and promote consistency across the Government. This bulletin is located at www.gsa.gov/ftr under the “FTR & Related Files” tab.

Dated: September 6, 2018.
Jessica Salmoiraghi,
Associate Administrator, Office of Government-wide Policy.

[FR Doc. 2018-19884 Filed 9-12-18; 8:45 am]

BILLING CODE 6820-14-P